PEACE CORPS

Proposed Collection Renewal

ACTION: 60-Day notice and request for comments.

SUMMARY: The Peace Corps will be submitting the following information collection request to the Office of Management and Budget (OMB) for extension, without change, of a currently approved information collection. In compliance with the Paperwork Reduction Act of 1995 (44 USC Chapter 35), the Peace Corps invites the general public to comment on the renewal, without change to the Peace Corps Career Information Consultation (CIC) Waiver Form (OMB Control No. 0420-0531). This process is conducted in accordance with 5 CFR 1320.10.

DATES: Comments must be submitted on or before January 3, 2011.

ADDRESSES: Comments should be addressed to Denora Miller, FOIA Officer, Peace Corps, 1111 20th Street, NW., Washington, DC 20526. Denora Miller can be contacted by telephone at 202-692-1236 or e-mail at pcfr@peacecorps.gov. E-mail comments must be made in text and not in attachments.

FOR FURTHER INFORMATION CONTACT: Denora Miller, at Peace Corps address above.

SUPPLEMENTARY INFORMATION: Proposal to renew a currently approved collection of information:

OMB Control Number: 0420-0531.

Title: Career Information Consultation (CIC) Waiver Form.

Type of Review: Regular—extension, without change, currently approved collection.

Respondents: Returned Peace Corps Volunteers and professionals in specific career fields.

Respondents Obligation to Reply: Voluntary.

Burden to the Public:

a. Total annual reporting burden: 208 hours.

b. Estimated average burden response: 5 minutes.

c. Frequency of response: Annually.

d. Estimated number of likely respondents: 2,500.

General description of collection: Returned Volunteer Services needs this information to update contact information for individuals who volunteer to share information about their career field, their past or current employer(s), and their career and educational paths with current and returned Peace Corps Volunteers. These individuals voluntarily provide this information in assisting with employment re-entry for Returned Peace Corps Volunteers. This is a service outreach part of transitioning from the Peace Corps to the business world. The individuals who provide the information are offering to assist, mentor or network for jobs.

Request for Comment: Peace Corps invites comments on whether the proposed collection of information is necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

This notice is issued in Washington, DC, on October 28, 2010.
Garry W. Stanberry,
Deputy Associate Director for Management.

[FR Doc. 2010-27752 Filed 11-2-10; 8:45 am]

BILLING CODE 6051-01-P